NATIONAL AERONAUTICS AND SPACE ADMINISTRATION

[Notice 00-094]

Centennial of Flight Commission

AGENCY: National Aeronautics and Space Administration.

ACTION: Notice of meeting.

SUMMARY: In accordance with the Federal Advisory Committee Act, Pub. L. 92-463, as amended, the National Aeronautics and Space Administration announces a meeting of the Centennial of Flight Commission.

DATES: Tuesday, September 12, 2000, 1 p.m. to 3:30 p.m.

ADDRESSES: Smithsonian National Air and Space Museum, 7th and Independence Avenue, SW, Director's Conference Room, 3rd Floor, Washington, DC 20560. Attendees must check in at the Information Desk to be cleared to the 3rd floor.

FOR FURTHER INFORMATION CONTACT: Ms. Beverly Farmarco, Code ZC, National Aeronautics and Space Administration, Washington, DC 20546, 202/358-1903.

SUPPLEMENTARY INFORMATION: The meeting will be open to the public up to the seating capacity of the room. The agenda for the meeting is as follows:

—Experimental Aircraft Association Plans for the Wright Centennial

—Discussion of Chair's Draft “White Paper on a Strategy Posture for the US Centennial of Flight Commission”

—Discussion of FY 2000 Report to Congress

—Plans for Next Meeting

It is imperative that the meeting be held on this date to accommodate the scheduling priorities of the key participants. Visitors will be requested to sign a visitor's register.

Dated: August 15, 2000.
Matthew M. Crouch
Advisory Committee Management Officer, National Aeronautics and Space Administration.

[FR Doc. 00-21169 Filed 8-18-00; 8:45 am]

BILLING CODE 7510-01-P